DEPARTMENT OF TRANSPORTATION

Federal Highway Administration

Laboratory Accreditation Program Approval

AGENCY: Federal Highway Administration, DOT.

ACTION: Notice.

SUMMARY: The Federal Highway Administration (FHWA) announces that it will use the National Cooperation for Laboratory Accreditation (NACLA) Recognition process for determining whether an accreditation program is comparable to the American Association of State Highway and Transportation Officials' (AASHTO) Accreditation Program for use in quality assurance procedures for laboratories performing sampling and testing of materials used in the construction of Federal-aid highways on the National Highway System. In order for the accreditation program to be considered comparable, the accreditation body must be recognized by NACLA with a scope that includes the “Technical Requirements for Construction Materials Testing.”

FOR FURTHER INFORMATION CONTACT: Mr. Michael Rafalowski, Office of Pavement Technology (HIPT-10), (202) 366-1571; Mr. Harold Aikens, Office of Chief Counsel, (HCC-30), (202) 366-0791, Department of Transportation, Federal Highway Administration, 400 Seventh Street, SW., Washington, DC 20590-0001. Office hours are from 8 a.m. to 4:30 p.m., e.s.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.archives.gov/fedreg and the Government Printing Office's web page at http://www.gpoaccess.gpo.gov/nara.

Background

In order to meet the quality assurance requirements for construction found in 23 CFR 637.209(a)(2), (3), and (4), laboratories performing sampling and testing of materials used in the construction of Federal-aid highway projects on the National Highway System must be accredited by the AASHTO Accreditation Program or a comparable laboratory accreditation program approved by FHWA. This notice announces that the FHWA will use the NACLA Accreditation Body Recognition Procedure and Technical Requirements for Construction Materials Testing, NISTIR 7012, as the criteria for the approval of comparable laboratory accreditation programs. The NACLA Recognition procedures are available at the following URL: http://www.nacla.net/MRA/RecognitionProcedure.pdf. The Technical Requirements for Testing Construction Materials is available at the following URL: http://ts.nist.gov/ts/htdocs/210/gsig/pubs/ir7012.pdf.

Before accreditation bodies will be approved by the FHWA, these bodies will be evaluated against the NACLA recognition procedures, the Technical Requirements for Construction Materials Testing, and must be recognized by NACLA with the Technical Requirements for Construction Materials Testing listed in its scope. Additionally, to meet the quality assurance requirements in 23 CFR 637.209(a)(2), (3), and (4), the laboratories must have been successfully assessed using the technical requirements and the laboratories scope of accreditation and must indicate that the laboratory was assessed according to the requirements in NISTR 7012.

The NACLA is a membership organization that has been incorporated since May 1998 for the purposes of recognizing the competency of laboratory accreditation programs. The FHWA has been a member of the organization from its inception and involved in the development and implementation of the recognition procedures and development of the Technical Requirements for Construction Materials Testing.

Authority: 23 U.S.C. 109, 114, and 315; 23 CFR 637; 49 CFR 1.48(b)

Issued on: September 14, 2004.
Mary E. Peters,
Federal Highway Administration.

[FR Doc. 04-21239 Filed 9-21-04; 8:45 am]

BILLING CODE 4910-22-P